DEPARTMENT OF DEFENSE

Department of the Army

[Docket ID: USA-2008-0073]

Privacy Act of 1974; System of Records

AGENCY: Department of the Army, DoD.

ACTION: Notice to Amend a System of Records.

SUMMARY: The Department of the Army is amending a system of records notice in its existing inventory of record systems subject to the Privacy Act of 1974, (5 U.S.C. 552a), as amended.

DATES: This proposed action will be effective without further notice on November 14, 2008 unless comments are received which result in a contrary determination.

ADDRESSES: Department of the Army, Privacy Office, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: October 7, 2008.
Patricia L. Toppings,
OSD Federal Register Liaison Officer, Department of Defense.

A0381-100b DAMI

System name:

Technical Surveillance Index (February 2, 1996, 61 FR 3920).

Changes:

* * * * *

System location:

Delete entry and replace with “The intelligence portions of the index are located at the Investigative Records Repository, U.S. Army Intelligence and Security Command, 902d Military Intelligence Group, ATTN: IAMG-CIC-IRR, Fort Meade, MD 20755-5995; and

The law enforcement portions of the index are located at the Director, U.S. Army Crime Records Center, ATTN: CICR-FP, 6010 6th Street, Building 1465, Fort Belvoir, VA 22060-5585.”

* * * * *

Storage:

Delete entry and replace with “Paper records in file folders and on electronic storage media.”

Retrievability:

Delete entry and replace with “By a combination of name, address, Social Security Number, telephone number, radio frequency, call sign, or case designation.”

Safeguards:

Delete entry and replace with “Access to buildings is controlled by security guards. The electronic index is maintained in specialized software with password protected access and data backup measures. Paper records are maintained in General Services Administration approved security containers, physically separated from other materials, and are accessible only to authorized personnel who are properly screened, cleared, and trained.”

* * * * *

Notification procedure:

Delete entry and replace with “Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.”

Record access procedures:

Delete entry and replace with “Individuals seeking to determine whether information about themselves is contained in this system should address written inquiries to the Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.”

* * * * *

A0381-100b DAMI

System name:

Technical Surveillance Index.

System location:

The intelligence portions of the index are located at the Investigative Records Repository, U.S. Army Intelligence and Security Command, 902d Military Intelligence Group, ATTN: IAMG-CIC-IRR, Fort Meade, MD 20755-5995; and

The law enforcement portions of the index are located at the Director, U.S. Army Crime Records Center, ATTN: CICR-FP, 6010 6th Street, Building 1465, Fort Belvoir, VA 22060-5585.

Categories of individuals covered by the system:

Persons under investigation by military law enforcement or military intelligence activities and parties to the conversation, whose conversations have been intercepted during electronic surveillance operations conducted by, or on behalf of, the Army.

Categories of records in the system:

The person who is the subject of the surveillance and to the extent known, names of each identifiable person whose communications were intercepted; language of conversation; Social Security Numbers; telephone number, radio frequencies or radio call signs involved; address of premise at which surveillance was conducted; title or number of the investigative file; element maintaining the case file and date or dates of the interceptions.

Also may include backup material (i.e., electronic surveillance information that was used, retained, or disseminated) when not filed as part of the investigative file.

Authority for maintenance of the system:

18 U.S.C. 2510-2520 and 3504; DoD 5240.1-R as implemented by Army Regulation 381-10, U.S. Army Intelligence Activities; and DoD 5200.24 as implemented by Army Regulation 190-53, Interception of Wire and Oral Communications for Law Enforcement Purposes; and E.O. 9397 (SSN).

Purpose(s):

To enable Military Law Enforcement and Counterintelligence agencies to quickly locate records of electronic surveillance activities in response to motions for discovery and inquiries and court documents.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Army's compilation of systems of records notices also apply to this system.

Policies and practices for storing, retrieving, accessing, retaining, and disposing of records in the system:

Storage:

Paper records in file folders and on electronic storage media.

Retrievability:

By a combination of name, address, Social Security Number, telephone number, radio frequency, call sign, or case designation.

Safeguards:

Access to buildings is controlled by security guards. The electronic index is maintained in specialized software with password protected access and data backup measures. Paper records are maintained in General Services Administration approved security containers, physically separated from other materials, and are accessible only to authorized personnel who are properly screened, cleared, and trained.

Retention and disposal:

Investigative Records Repository electronic index entries are deleted 10 years after date of interception or upon destruction (shredding, burning, pulping or magnetic erasing) or transfer to the National Archives of case file containing electronic surveillance information. Transfer dates occur 25, 30, and 50 years after the date of the most current material in the file as governed by retention period applied to the case dossier. Crime Records Center documents and related interception will be maintained for the period of time consistent to the investigative record to which they pertain, i.e., 3, 5, and 40 years. Disposal will be through shredding, burning or pulping and magnetic erasing.

Tapes obtained as the result of domestic non-consensual interceptions and retained as backup material will be kept for 10 years.

System manager(s) and address:

The Deputy Chief of Staff for Intelligence, Headquarters, Department of the Army, 1001 Army Pentagon, Washington, DC 20310-1001 for the intelligence portion of the index.

The U.S. Army Criminal Investigations Command, 5611 Columbia Pike, Falls Church, VA 22041-2015 for the law enforcement portion of the index.

Notification procedure:

Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.

Record access procedures:

Individuals seeking to determine whether information about themselves is contained in this system should address written inquiries to the United States Army Intelligence and Security Command, Freedom of Information/Privacy Office, 4552 Pike Road, Fort Meade, MD 20755-5995.

Individuals must furnish his/her full name, any alias, Social Security Number, date and place of birth, current address, telephone number, and a notarized signature or contact 1-866-548-5651 or e-mail the INSCOM FOIA office at INSCOM_FOIA_ServiceCenter@mi.army.mil.

Contesting record procedures:

The Army's rules for accessing records, contesting contents, and appealing initial agency determinations are contained in Army Regulation 340-21; 32 CFR part 505; or may be obtained from the system manager.

Record source categories:

Army and other Federal, state and local investigative agencies.

Exemptions claimed for the system:

Portions of this system may be exempt under the provisions of 5 U.S.C. 552a(k)(1), (k)(2), or (k)(5), as applicable.

An exemption rule for this system has been promulgated in accordance with requirements of 5 U.S.C. 553(b)(1), (2), and (3), (c), and (e) and published in 32 CFR part 505. For additional information contact the system manager.

[FR Doc. E8-24441 Filed 10-14-08; 8:45 am]

BILLING CODE 5001-06-P